DEPARTMENT OF ENERGY

Office of Energy Efficiency and Renewable Energy

[Docket No. EE-RM/TP-02-001]

RIN 1904-AB12

Energy Conservation Program for Consumer Products: Test Procedure for Refrigerators and Refrigerator-Freezers

AGENCY: Office of Energy Efficiency and Renewable Energy, Department of Energy.

ACTION: Notice of extension of interim waiver.

SUMMARY: On August 3, 2001, the Department of Energy (DOE) published a Federal Register Notice granting an application for Interim Waiver to Electrolux Home Products (Electrolux) and published a Petition for Waiver from the DOE refrigerator and refrigerator-freezer test procedure. In today's action, DOE is extending the interim waiver for 180 days, or until July 25, 2002.

FOR FURTHER INFORMATION CONTACT: Michael Raymond at (202) 586-9611, E-mail: michael.raymond@ee.doe.gov, or Francine Pinto, Esq., (202) 586-7432, E-mail: Francine.Pinto@HQ.DOE.GOV.

SUPPLEMENTARY INFORMATION: On July 30, 2001, DOE issued an interim waiver from the DOE refrigerator and refrigerator-freezer test procedure to Electrolux. (66 FR 40689). Pursuant to 10 CFR 430.27(h), “an interim waiver will terminate 180 days after issuance or upon the determination on the Petition for Waiver, whichever occurs first. An interim waiver may be extended by DOE for 180 days. Notice of such extension and/or any modification of the terms or duration of the interim waiver shall be published in the Federal Register, and shall be based on relevant information contained in the record and any comments received subsequent to issuance of the interim waiver.” The 180-day period for the interim waiver ended on January 26, 2002.

Since DOE intends to promptly amend its refrigerator and refrigerator-freezer test procedures so as to eliminate any need for continuation of the waiver, DOE has determined that it is appropriate to grant an extension of the interim waiver to Electrolux for an additional 180 days, or until July 25, 2002. Before that date, DOE will publish a direct final rule amending the refrigerator and refrigerator-freezer test procedure so as to permit all interested parties to calculate the long-time automatic defrost test period in the same manner recommended by the Association of Home Appliance Manufacturers (AHAM) in its comment on Electrolux's petition. AHAM commented that the four-hour limitation of the test should commence when the defrost heater is initiated, rather than at the beginning of the second part of the two-part test period. AHAM stated that it has had discussions with its members regarding its proposed change, and is not aware of anyone who disagrees with its position.

DOE views this change to the test procedure as noncontroversial and does not anticipate any adverse comments. In fact, all comments received subsequent to issuance of the interim waiver were favorable to this change to the test procedure. At the same time as the publication of the direct final rule, DOE will issue a notice of proposed rulemaking (NOPR) with the same amendment as contained in the direct final rule so that if adverse comments are received the comments can be addressed in a subsequent final rule based on the NOPR.

Issued in Washington, DC, on March 25, 2002.
David K. Garman,
Assistant Secretary, Energy Efficiency and Renewable Energy.

[FR Doc. 02-7590 Filed 3-28-02; 8:45 am]

BILLING CODE 6450-01-P